NATIONAL SCIENCE FOUNDATION

Sunshine Act Meeting

The National Science Board's Committee on Oversight hereby gives notice of the scheduling of a teleconference for the transaction of National Science Board business as follows:

TIME AND DATE: Wednesday, February 10, 2021, from 1:00-2:00 p.m. EST.

PLACE: This meeting will be held by teleconference through the National Science Foundation.

STATUS: Open.

MATTERS TO BE CONSIDERED: The agenda of the teleconference is: Chair's opening remarks; presentation regarding merit review analysis; review of two proposed NSB policies; and discussion of data on careers of NSF-funded graduate students.

CONTACT PERSON FOR MORE INFORMATION: Point of contact for this meeting is: Ann Bushmiller, abushmil@nsf.gov, 703/292-7000. To listen to this teleconference, members of the public must send an email to nationalsciencebrd@nsf.gov at least 24 hours prior to the teleconference. The National Science Board Office will send requesters a toll-free dial-in number. Meeting information and updates may be found at https://www.nsf.gov/nsb/meetings/index.jsp. Please refer to the National Science Board website at www.nsf.gov/nsb for general information.

Chris Blair,
Executive Assistant to the National Science Board Office.

[FR Doc. 2021-02466 Filed 2-2-21; 4:15 pm]

BILLING CODE 7555-01-P